DEPARTMENT OF COMMERCE

National Oceanic and Atmospheric Administration

50 CFR Part 300

[RTID 0648-XW014]

Fraser River Sockeye and Pink Salmon Fisheries; Inseason Orders

AGENCY: National Marine Fisheries Service (NMFS), National Oceanic and Atmospheric Administration (NOAA), Commerce.

ACTION: Temporary rule; inseason orders.

SUMMARY: NMFS publishes Fraser River salmon inseason orders to regulate treaty and non-treaty (all citizen) commercial salmon fisheries in U.S. waters. The orders were issued by the Fraser River Panel (Panel) of the Pacific Salmon Commission (Commission) and subsequently approved and issued by NMFS during 2019 for sockeye and pink salmon fisheries within the U.S. Fraser River Panel Area. These orders established fishing dates, times, and areas for the gear types of U.S. treaty Indian and all citizen commercial fisheries during the period the Panel exercised jurisdiction over these fisheries.

DATES: The effective dates for the inseason orders are set out in this document under the heading Inseason Orders.

FOR FURTHER INFORMATION CONTACT: Peggy Mundy at 206-526-4323.

SUPPLEMENTARY INFORMATION: The Treaty between the Government of the United States of America and the Government of Canada concerning Pacific salmon was signed at Ottawa on January 28, 1985, and subsequently was given effect in the United States by the Pacific Salmon Treaty Act (Act) at 16 U.S.C. 3631-3644.

Under authority of the Act, Federal regulations at 50 CFR part 300, subpart F, provide a framework for the implementation of certain regulations of the Commission and inseason orders of the Commission's Fraser River Panel for U.S. sockeye and pink salmon fisheries in the Fraser River Panel Area.

The regulations close the U.S. portion of the Fraser River Panel Area to U.S. sockeye and pink salmon tribal and non-tribal commercial fishing unless opened by Panel regulations that are given effect by inseason orders issued by NMFS (50 CFR 300.94(a)(1)). During the fishing season, NMFS may issue inseason orders that establish fishing times and areas consistent with the Commission agreements and regulations of the Panel. Such orders must be consistent with domestic legal obligations and are issued by the Regional Administrator, West Coast Region, NMFS. Official notification of these inseason actions is provided by two telephone hotline numbers described at 50 CFR 300.97(b)(1) and in 84 FR 19729 (May 6, 2019). The inseason orders are published in the Federal Register as soon as practicable after they are issued. Due to the frequency with which inseason orders are issued, publication of individual orders is impractical.

Inseason Orders

The Panel assumed regulatory control of Fraser River Panel Area waters on June 30, 2019. The following inseason orders were adopted by the Panel and issued for U.S. fisheries within Fraser Panel Area waters by NMFS during the 2019 fishing season. Each of the following inseason actions was effective upon announcement on telephone hotline numbers as specified at 50 CFR 300.97(b)(1) and in 84 FR 19729 (May 6, 2019); those dates and times are listed herein. The times listed are local times, and the areas designated are Puget Sound Management and Catch Reporting Areas as defined in the Washington State Administrative Code at Chapter 220-22, with the exception of the Apex, which is those waters north and west of the Area 7A “East Point Line,” defined as a line projected from the low water range marker in Boundary Bay on the International Boundary through the east tip of Point Roberts in the State of Washington to the East Point Light on Saturna Island in the Province of British Columbia.

Fraser River Panel Order Number 2019-01: Issued 1:25 p.m., August 20, 2019

Treaty Indian Fishery

Areas 4B, 5, and 6C: Open for drift gillnet fishing from 12 p.m. (noon), Wednesday, August 21, 2019, through 12 p.m. (noon), Friday, August 23, 2019. All efforts must be made to release sockeye alive.

Areas 6, 7, and 7A: Open for reef net, drift gillnet, and purse seine fishing from 5 a.m., Wednesday, August 21, 2019, through 9 a.m., Friday, August 23, 2019. All efforts must be made to release sockeye alive.

All Citizen Fishery

Areas 7 and 7A: Open for purse seine fishing, with non-retention of sockeye, from 5 a.m. to 9 p.m., Friday, August 23, 2019.

Areas 7 and 7A: Open for drift gillnet fishing, with non-retention of sockeye, from 8 a.m. to 11:59 p.m. (midnight), Friday, August 23, 2019.

Fraser River Panel Order Number 2019-02: Issued 1:23 p.m., August 23, 2019

All Citizen Fishery

Areas 7 and 7A: The purse seine fishery previously scheduled for 5 a.m. to 9 p.m., Friday, August 23, 2019, is rescinded.

Areas 7 and 7A: The drift gillnet fishery previously scheduled for 8 a.m. to 11:59 p.m., Friday, August 23, 2019, is rescinded.

Fraser River Panel Order Number 2019-03: Issued 1:23 p.m., August 23, 2019

Treaty Indian Fishery

Areas 4B, 5, and 6C: Open for drift gillnet fishing from 12 p.m. (noon), Saturday, August 24, 2019, through 12 p.m. (noon), Wednesday, August 28, 2019. Sockeye non-retention.

Area 7: Open for reef net fishing from 5 a.m. to 9 p.m., Sunday, August 25, 2019, and 5 a.m. to 9 p.m., Monday, August 26, 2019. Sockeye non-retention.

All Citizen Fishery

Areas 7: Open for reef net fishing from 5 a.m. to 9 p.m., Sunday, August 25, 2019, and from 5 a.m. to 9 p.m., Monday, August 26, 2019. Must release all sockeye, unmarked Chinook salmon, unmarked coho, and all chum salmon.

Areas 7 and 7A, excluding the Apex: Open for purse seine fishing from 5 a.m. to 9 p.m., Saturday, August 24, 2019, and from 5 a.m. to 9 p.m., Sunday, August 25, 2019. Pink salmon retention only.

Areas 7 and 7A, excluding the Apex: Open for drift gillnet fishing from 8 a.m. to 11:59 p.m. (midnight), Saturday, August 24, 2019, and Sunday, August 25, 2019. Non-retention of sockeye.

Fraser River Panel Order Number 2019-04: Issued 4:20 p.m., September 12, 2019

Treaty Indian Fisheries

Area 7: Open for reef net fishing from 5 a.m. through 9 p.m., Friday, September 13, 2019, and from 5 a.m. through 1 p.m., Saturday, September 14, 2019. Sockeye non-retention.

Areas 4B, 5, 6, 6C, 7, and 7A: Open for reef net, drift gillnet, and purse seine fishing from 5 a.m., Sunday, September 15, 2019, through 9 p.m., Monday, September 16, 2019. Sockeye non-retention.

All Citizen Fishery

Area 7: Open for reef net fishing from 5 a.m. through 9 p.m., Friday, September 13, 2019, and from 5 a.m. through 1 p.m., Saturday, September 14, 2019. Must release all sockeye, unmarked Chinook salmon, unmarked coho, and all chum salmon.

Area 7: Open for purse seine fishing from 5 a.m. through 9 p.m., Friday, September 13, 2019. Pink salmon retention only.

Area 7: Open for drift gillnet fishing from 8 a.m. through 11:59 p.m. (midnight), Friday, September 13, 2019. Non-retention of sockeye.

Area 7A: Open for purse seine fishing from 5 a.m. through 9 p.m., Friday, September 13, 2019, and from 5 a.m. through 1 p.m., Saturday, September 14, 2019. Pink salmon retention only.

Area 7A: Open for drift gillnet fishing from 8 a.m. through 11:59 p.m. (midnight), Friday, September 13, 2019, and from 8 a.m. through 4 p.m., Saturday, September 14, 2019. Non-retention of sockeye.

Fraser River Panel Order Number 2019-05: Issued 12:30 p.m., September 13, 2019

This order implements changes to fisheries authorized by Fraser River Panel Order Number 2019-04, above.

Treaty Indian Fisheries

Area 7: Open for reef net fishing from 12 p.m. (noon) to 8 p.m., Saturday, September 14, 2019. Sockeye non-retention. This supersedes the reef net fishery previously scheduled in this area for Saturday, September 14, 2019.

Areas 4B, 5, and 6C: Open for drift gillnet fishing from 5 a.m., Sunday, September 15, 2019, through 9 p.m., Monday, September 16, 2019. Sockeye non-retention. This supersedes the net fisheries previously scheduled in these areas for Sunday, September 15, 2019, and Monday, September 16, 2019.

Areas 6, 7, and 7A: Open for drift gillnet and purse seine fishing from 5 a.m., Sunday, September 15, 2019, through 9 p.m., Monday, September 16, 2019. Sockeye non-retention. This supersedes the fisheries previously scheduled for these areas on Sunday, September 15, 2019, and Monday, September 16, 2019.

All Citizen Fishery

Area 7: Open for reef net fishing from 12 p.m. (noon) to 8 p.m., Saturday, September 14, 2019. Must release all sockeye, unmarked Chinook salmon, unmarked coho, and all chum salmon. This supersedes the reef net fishery previously scheduled for this area on Saturday, September 14, 2019.

Fraser River Panel Order Number 2019-06: Issued 11:41 a.m., September 17, 2019

Treaty Indian and All Citizen Fisheries

Areas 4B, 5, 6, 6C, and 7: Relinquish regulatory control effective 11:59 p.m. (midnight), Tuesday, September 17, 2019.

Areas 7A, excluding the Apex: Relinquish regulatory control effective 11:59 p.m. (midnight), Saturday, September 21, 2019.

Apex: Relinquish regulatory control at 11:59 p.m., Saturday, October 5, 2019.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: January 2, 2020.
Jennifer M. Wallace,
Acting Director, Office of Sustainable Fisheries, National Marine Fisheries Service.

[FR Doc. 2020-00021 Filed 1-13-20; 8:45 am]

BILLING CODE 3510-22-P